DEPARTMENT OF HEALTH AND HUMAN SERVICES

Administration for Children and Families

Proposed Information Collection Activity; American Relief Act 2025 Disaster Supplemental Funds for Child Care (New Collection)

AGENCY: The Office of Child Care, Administration for Children and Families, U.S. Department of Health and Human Services.

ACTION: Request for public comments.

SUMMARY: The Office of Child Care (OCC), Administration for Children and Families is requesting comment on the proposed application for disaster relief funding provided in the American Relief Act, 2025.

DATES: Comments due March 18, 2025. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The American Relief Act, 2025 provided $250,000,000 in disaster relief funding to OCC to distribute to eligible States, territories, and Tribes in response to the consequences of major disasters and emergencies declared pursuant to the Robert T. Stafford Disaster Relief and Emergency Assistance Act (42 U.S.C. 5121 et seq.) occurring in 2023 and 2024.

OCC will be requesting information from eligible Child Care and Development Fund (CCDF) Lead Agencies who are interested in receiving these funds. The information requested includes the relevant major disaster or emergency declaration; a detailed description of the affected area; a detailed description of the impact on children, families, staff, and child care services; a description of each proposed activity; information on previous expenses incurred related to the disaster or emergency; and the total amount of funds requested. OCC will use the information received to inform decisions about distribution of funds.

Respondents: State, territory, and Tribal Lead Agencies.

Annual Burden Estimates

Respondents would provide one response to this request and information. The following burden estimates reflect the total estimated burden, which is expected within the first year of approval.

Instrument | Total number of respondents | Total number of responses per respondent | Average burden hours per response | Total burden hours
ACF-OCC-CCDF-PI-2025-X (Disaster Supplemental Funds for Child Care—2023 and 2024 major disasters and emergencies) | 70 | 1 | 80 | 5,600

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

In addition, The Department solicits public comment on whether OCC should, in advance of receiving Lead Agency applications for funding, establish funding ranges for the size of grants based on certain factors, and if so, what those ranges and factors should be.

Authority: Public Law 118-158.

Mary C. Jones,
ACF/OPRE Certifying Officer.

[FR Doc. 2025-01221 Filed 1-16-25; 8:45 am]

BILLING CODE 4184-87-P